DEPARTMENT OF THE INTERIOR

National Park Service

[NPS-MWR-NIOB-31678; PS.SMWLA0140.00.1]

Boundary Amendment at Niobrara National Scenic River

AGENCY: National Park Service, Interior.

ACTION: Notification of boundary revision.

SUMMARY: Pursuant to the Judgment in Simmons v. Jarvis, 8:13CV98, Doc #120 (D. Neb. 2016), notice is hereby given that the boundary of Niobrara National Scenic River is amended to remove one tract of unimproved, non-Federal land, which is a portion of Tract 00001 containing 12.45 acres more or less, located in Cherry County, Nebraska, currently within the Scenic Riverway boundary.

DATES: The effective date of this boundary revision is June 28, 2021.

ADDRESSES: The map depicting the boundary revision is available for inspection at the following locations: National Park Service, Interior Regions 3, 4 & 5, Land Resources Program, 601 Riverfront Drive, Omaha, Nebraska 68102 and National Park Service, Department of the Interior, 1849 C Street NW, Washington, DC 20240.

FOR FURTHER INFORMATION CONTACT: Acting Chief, Land Resources Program Michael Bockman, National Park Service, Interior Regions 3, 4 & 5, 601 Riverfront Drive, Omaha, Nebraska 68102, telephone (402) 661-1780.

SUPPLEMENTARY INFORMATION: The Niobrara Scenic River Designation Act of 1991, (Pub. L. 102-50, 105 Stat. 254), designated certain segments of the Niobrara River in Nebraska as components of the Wild and Scenic Rivers System. Included within the boundary of the designated river are 12.45 acres of unimproved non-Federal land.

The Niobrara Scenic River Designation Act is subject to the Wild and Scenic Rivers Act of October 2, 1968, (Pub. L. 90-542, 82 Stat. 906), as amended, 16 U.S.C. 1271-1287. Section 3(b) of that Act, 16 U.S.C. 1274(b), provides that “Notice of availability of the boundaries and classification, and of subject boundary amendments shall be published in the Federal Register and shall not become effective until ninety days after they have been forwarded to the President of the Senate and the Speaker of the House of Representatives.” Minor technical boundary changes to System units are authorized by 54 U.S.C. 100506(c).

This boundary amendment will remove a portion of Tract 00001 containing 12.45 acres of unimproved, non-Federal land, more or less, from the Niobrara National Scenic River pursuant to the Judgment of the U.S. District Court in Simmons v. Jarvis, 8:13CV98, Doc #120 (D. Neb. 2016). The referenced tract for the boundary revision is depicted on Map No. 656/173910 dated, December 2020.

BILLING CODE 4312-52-P

Herbert C. Frost,
Regional Director, Interior Regions 3, 4, 5.

[FR Doc. 2021-13754 Filed 6-25-21; 8:45 am]

BILLING CODE 4312-52-C